DEPARTMENT OF TRANSPORTATION

Federal Aviation Administration

[Docket No. FAA-2023-2211]

Agency Information Collection Activities: Requests for Comments; Clearance of a Renewed Approval of Information Collection: Identification of Foreign-Registered Civil Unmanned Aircraft Operating in the United States

AGENCY: Federal Aviation Administration (FAA), DOT.

ACTION: Notice and request for comments.

SUMMARY: In accordance with the Paperwork Reduction Act of 1995, FAA invites public comments about our intention to request the Office of Management and Budget (OMB) approval to renew an information collection. The collection involves identifying information regarding foreign-registered civil unmanned aircraft operated in the airspace of the United States. The information to be collected will be used to associate a foreign-registered unmanned aircraft operating in the United States with Remote Identification to the unmanned aircraft operator.

DATES: Written comments should be submitted by January 5, 2024.

ADDRESSES: Please send written comments:

By Electronic Docket: www.regulations.gov (Enter docket number into search field)

By mail: Benjamin Walsh, FAA Flight Standards Service, Emerging Technologies Division, AFS-700, 800 Independence Ave SW, Washington, DC 20591

FOR FURTHER INFORMATION CONTACT: Benjamin Walsh by email at: ben.walsh@faa.gov; phone: 202-267-8233

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0782.

Title: Identification of Foreign-Registered Civil Unmanned Aircraft Operating in the United States.

Form Numbers: N/A.

Type of Review: Renewal of an information collection.

Background: The unmanned aircraft remote identification operating requirements in title 14 Code of Federal Regulations, part 89 apply to persons operating foreign civil unmanned aircraft in the United States. The FAA must be able to correlate the remote identification message elements broadcast by foreign civil unmanned aircraft operated in the United States against information that helps FAA and law enforcement identify a person responsible for the operation of the foreign civil unmanned aircraft. Where unmanned aircraft are registered in a foreign jurisdiction, the FAA may not have access to information regarding the unmanned aircraft or its registered owner. Thus, the FAA is allowing a person to operate foreign-registered civil unmanned aircraft with remote identification in the United States only if the person submits a notice of identification to the Administrator in accordance with title 14 Code of Federal Regulations § 89.130. The notice can be submitted online using the notice of identification form in FAA Drone Zone (https://faadronezone.faa.gov/). The notice includes the following information to allow FAA to associate an unmanned aircraft to a responsible person:

(1) An indication whether the person operating the foreign registered civil unmanned aircraft in the United States is an organization or an individual.

(2) The name of the person operating the foreign registered civil unmanned aircraft in the United States, and, if applicable, the person's authorized representative.

(3) The physical address of the person operating the foreign registered civil unmanned aircraft in the United States, and, if applicable, the physical address for the person's authorized representative. If the operator or authorized representative does not receive mail at the physical address, a mailing address must also be provided.

(4) The telephone number(s) where the person operating the foreign registered civil unmanned aircraft in the United States, and, if applicable, the person's authorized representative can be reached while in the United States.

(5) The email address of the person operating the foreign registered civil unmanned aircraft in the United States, and, if applicable, the email address of the person's authorized representative.

(6) An indication whether the unmanned aircraft is a standard remote identification unmanned aircraft or has a remote identification broadcast module.

(7) The unmanned aircraft manufacturer and model name.

(8) The serial number of the unmanned aircraft or remote identification broadcast module.

(8) The country of registration of the unmanned aircraft.

(10) The registration number.

Once a person submits an online notice of identification, the FAA will issue a confirmation of identification. A person operating a foreign-registered unmanned aircraft in the United States must maintain the confirmation of identification at the unmanned aircraft's control station and must produce it when requested by the FAA or a law enforcement officer.

The holder of a confirmation of identification must ensure the information provided under § 89.130(a) remains accurate and is updated prior to operating a foreign registered civil unmanned aircraft with remote identification in the United States. The confirmation of identification expires after one year and can be cancelled or renewed online at FAA Drone Zone.

Respondents: Operators of foreign-registered civil unmanned aircraft with remote identification, as needed (prior to operating in the airspace of the United States) are mandated to report information to this collection. The FAA uses information provided by operators of foreign-registered civil unmanned aircraft operating in the airspace of the United States to identify those aircraft.

Frequency: As needed prior to operation of a foreign-registered civil unmanned aircraft in the United States.

Estimated Average Burden per Response: 6 minutes per response.

Estimated Total Annual Burden: 6 minutes per respondent, 797 hours per year total for all respondents.

Issued in Washington, DC on November 1, 2023.
Joseph Morra,
Manager, Emerging Technologies Division, AFS-700.

[FR Doc. 2023-24427 Filed 11-3-23; 8:45 am]

BILLING CODE 4910-13-P